DEPARTMENT OF LABOR

Occupational Safety and Health Administration

[Docket No. OSHA-2007-0043]

TÜV SÜD America, Inc.: Grant of Renewal of Recognition

AGENCY: Occupational Safety and Health Administration (OSHA), Labor.

ACTION: Notice.

SUMMARY: This notice announces the Occupational Safety and Health Administration's final decision granting renewal of recognition of TÜV SÜD America, Inc., as a Nationally Recognized Testing Laboratory (NRTL) under 29 CFR 1910.7.

DATES: The renewal of recognition becomes effective on January 30, 2014.

FOR FURTHER INFORMATION CONTACT: David W. Johnson, Director, Office of Technical Programs and Coordination Activities, NRTL Program, Occupational Safety and Health Administration, U.S. Department of Labor, 200 Constitution Avenue NW., Room N-3655, Washington, DC 20210, phone (202) 693-2110, or email at johnson.david.w@dol.gov.

SUPPLEMENTARY INFORMATION:

I. Background

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification. OSHA maintains an informational Web site for each NRTL that details its scope of recognition available at http://www.osha.gov/dts/otpca/nrtl/index.html.

OSHA processes applications by an NRTL for renewal of recognition following requirements in Appendix A to 29 CFR 1910.7. OSHA conducts renewals in accordance with the procedures in 29 CFR 1910.7, App. II.C. In accordance with these procedures, NRTLs submit a renewal request to OSHA not less than nine months or no more than one year before the expiration date of its current recognition. A renewal request includes a request for renewal and any additional information the NRTL wishes to submit to demonstrate its continued compliance with the terms of its recognition and 29 CFR 1910.7. If OSHA has not conducted an on-site assessment of the NRTL headquarters and any key sites within the past 18 to 24 months, it will schedule the necessary on-site assessments prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

TÜV SÜD America, Inc. (TUVAM) initially received OSHA recognition as an NRTL on January 25, 2002 (67 FR 3737), for a five-year period ending on January 25, 2007. TUVAM submitted a timely request for renewal, dated March 7, 2006 (see Exhibit OSHA-2007-0043-0005), and retained its recognition pending OSHA's final decision in this renewal process. The current addresses of TUVAM facilities recognized by OSHA and included as part of the renewal request are:

1. TÜV SÜD America, Inc., 10 Technology Drive, Peabody, Massachusetts 01960;

2. TÜV SÜD America, Inc., 10040 Mesa Rim Road, San Diego, California 92121; and

3. TÜV SÜD America, Inc., 1775 Old Highway 8 NW., Suite 104, New Brighton, Minnesota 55112.

OSHA evaluated TUVAM's application for renewal and made a preliminary determination that TUVAM can continue to meet the requirements prescribed by 29 CFR 1910.7 for recognition. OSHA conducted an audit of TUVAM's facilities on August 17, 2012 (Peabody, MA), and April 27, 2012 (San Diego, CA), and found TUVAM to be in conformance with all applicable NRTL requirements. Accordingly, OSHA determined that it did not need to conduct an on-site review of TUVAM's facilities based on its evaluation of TUVAM's application and all other available information.

OSHA published the preliminary notice announcing TUVAM's renewal request in the Federal Register on November 4, 2013. The Agency requested comments by November 19, 2013, but received no comments in response to this notice. OSHA now is proceeding with this final notice to grant TUVAM's request for renewal of recognition.

To obtain or review copies of all public documents pertaining to the TUVAM's application, contact the Docket Office, Occupational Safety and Health Administration, U.S. Department of Labor, 200 Constitution Avenue NW., Room N-2625, Washington, DC 20210. Docket No. OSHA-2007-0043 contains all materials in the record concerning TUVAM's recognition.

II. Final Decision and Order

Pursuant to the authority granted under 29 CFR 1910.7, OSHA hereby gives notice of the renewal of recognition of TUVAM as an NRTL. OSHA NRTL Program staff reviewed the renewal request for TUVAM and other pertinent information provided by TUVAM. Based on this review of the renewal request for TUVAM and other pertinent information provided by TUVAM, OSHA finds that TUVAM meets the requirements of 29 CFR 1910.7 for renewal of its recognition, subject to the limitation and conditions listed below. OSHA limits the renewal of TUVAM's recognition to include the terms and conditions of TUVAM's individual scope of recognition. The scope of recognition for TUVAM is available in the Federal Register notice dated January 25, 2002 (67 FR 3737) or at OSHA's informational Web page for TUVAM's recognition as an NRTL on OSHA's Web site at http://www.osha.gov/dts/otpca/nrtl/TUVAM.html.

Conditions

In addition to those conditions already required by 29 CFR 1910.7, TUVAM also must abide by the following conditions of the recognition:

1. TUVAM must inform OSHA as soon as possible, in writing, of any change of ownership, facilities, or key personnel, and of any major change in its operations as an NRTL, and provide details of the change(s);

2. TUVAM must meet all the terms of its recognition and comply with all OSHA policies pertaining to this recognition; and

3. TUVAM must continue to meet the requirements for recognition, including all previously published conditions on TUVAM's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to Section 8(g)(2) of the Occupational Safety and Health Act of 1970 (29 U.S.C. 657(g)(2)), Secretary of Labor's Order No. 1-2012 (77 FR 3912, Jan. 25, 2012), and 29 CFR 1910.7.

Signed at Washington, DC, on January 27, 2014.
David Michaels,
Assistant Secretary of Labor for Occupational Safety and Health.

[FR Doc. 2014-01860 Filed 1-29-14; 8:45 am]

BILLING CODE 4510-26-P